DEPARTMENT OF HEALTH AND HUMAN SERVICES

Public Meeting of the President's Council on Bioethics

AGENCY: Department of Health and Human Services, Office of Public Health and Science, The President's Council on Bioethics.

ACTION: Notice.

SUMMARY: The President's Council on Bioethics (Edmund D. Pellegrino, MD, Chairman) will hold its thirty-third meeting, at which it will discuss its projected White Paper on newborn screening and hear and discuss presentations on the ethics of health care reform. Subjects discussed at past Council meetings (although not on the agenda for the June 2008 meeting) include: therapeutic and reproductive cloning, assisted reproduction, reproductive genetics, neuroscience, aging retardation, organ transplantation, personalized medicine, and lifespan extension. Publications issued by the Council to date include: Human Cloning and Human Dignity: An Ethical Inquiry (July 2002); Beyond Therapy: Biotechnology and the Pursuit of Happiness (October 2003); Being Human: Readings from the President's Council on Bioethics (December 2003); Monitoring Stem Cell Research (January 2004), Reproduction and Responsibility: The Regulation of New Biotechnologies (March 2004), Alternative Sources of Human Pluripotent Stem Cells: A White Paper (May 2005), Taking Care: Ethical Caregiving in Our Aging Society (September 2005), and Human Dignity and Bioethics: Essays Commissioned by the President's Council on Bioethics (March 2008). Reports on controversies in the determination of death and on organ donation, procurement, allocation, and transplantation are forthcoming.

DATES: The meeting will take place Thursday, June 26, 2008, from 9 a.m. to 5 p.m. (CT); and Friday, June 27, 2008, from 9 a.m. to 11:15 a.m. (CT).

ADDRESSES: Courtyard Marriott Magnificent Mile, 165 East Ontario Street, Chicago, IL 60611. Phone 312-573-0800.

FOR FURTHER INFORMATION CONTACT: Ms. Diane M. Gianelli, Director of Communications, The President's Council on Bioethics, 1425 New York Avenue, NW., Suite C100, Washington, DC 20005. Telephone: 202/296-4669; e-mail: info@bioethics.gov; Web site: http://www.bioethics.gov.

SUPPLEMENTARY INFORMATION: The meeting agenda will be posted at http://www.bioethics.gov. The Council encourages public input, either in person or in writing. At this meeting, interested members of the public may address the Council, beginning at 11 a.m. (CT), on Friday, June 27. Comments are limited to no more than five minutes per speaker or organization. As a courtesy, please inform Ms. Diane M. Gianelli, Director of Communications, in advance of your intention to make a public statement, and give your name and affiliation. To submit a written statement, mail or e-mail it to Ms. Gianelli at one of her contact addresses given above.

Dated: May 22, 2008.
F. Daniel Davis,
Executive Director, The President's Council on Bioethics.

[FR Doc. E8-12344 Filed 6-2-08; 8:45 am]

BILLING CODE 4154-06-P